DEPARTMENT OF TRANSPORTATION

Federal Aviation Administration

14 CFR Part 39

[Docket No. FAA-2011-0995; Directorate Identifier 2010-NM-243-AD]

RIN 2120-AA64

Airworthiness Directives; 328 Support Services GmbH (Type Certificate Previously Held by AvCraft Aerospace GmbH; Fairchild Dornier GmbH; Dornier Luftfahrt GmbH) Model 328-100 and 328-300 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Based on in-service experience, the System Safety Analyses for the Flight Controls have been reviewed and their conclusions have been accepted during the latest Candidate Maintenance Coordination Committee meeting.

This review resulted in reduced inspection intervals, specifically for the flight controls tab-to-actuator linkage [certification maintenance requirements] CMR** repetitive inspections, which have been identified as mandatory actions for continued airworthiness.

Failure of these components or their constituent parts could lead to reduced control of the aeroplane.

* * * * *

The proposed AD would require actions that are intended to address the unsafe condition described in the MCAI.

DATES: We must receive comments on this proposed AD by November 21, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact 328 Support Services GmbH, Global Support Center, P.O. Box 1252, D-82231 Wessling, Federal Republic of Germany; telephone: +49 8153 88111 6666; fax: +49 8153 88111 6565; e-mail: gsc.op@328support.de; Internet: http://www.328support.de. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Tom Rodriguez, Aerospace Engineer, International Branch, ANM-116, Transport Airplane Directorate, FAA 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2011-0995; Directorate Identifier 2010-NM-243-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0054, dated March 25, 2010 (referred to after this as “the MCAI”), to correct an unsafe condition for the specified products. The MCAI states:

Based on in-service experience, the System Safety Analyses for the Flight Controls have been reviewed and their conclusions have been accepted during the latest Candidate Maintenance Coordination Committee meeting.

This review resulted in reduced inspection intervals, specifically for the flight controls tab-to-actuator linkage CMR** repetitive inspections, which have been identified as mandatory actions for continued airworthiness.

Failure of these components or their constituent parts could lead to reduced control of the aeroplane.

Consistent with the EASA policy to require compliance with any new and reduced airworthiness limitations by taking AD action and for the reasons described above, this EASA AD requires the accomplishment of the reduced-interval repetitive inspections and, depending on findings, related corrective action(s). In addition, this AD requires the implementation of the affected reduced inspection intervals and associated corrective actions into the operator's approved maintenance programme.

You may obtain further information by examining the MCAI in the AD docket.

Relevant Service Information

328 Support Services GmbH has issued Dornier 328 Certification Maintenance Requirements Document TM-CMR-010793-ALL, Revision 13, dated April 30, 2007; and Dornier 328JET Certification Maintenance Requirements Document TM-CMR-010599-ALL, Revision 2, dated May 1, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 63 products of U.S. registry. We also estimate that it would take about 1 work-hour per product to comply with the basic requirements of this proposed AD. The average labor rate is $85 per work-hour. Based on these figures, we estimate the cost of the proposed AD on U.S. operators to be $5,355, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

328 Support Services GmbH (Type Certificate Previously Held by AvCraft Aerospace GmbH; Fairchild Dornier GmbH; Dornier Luftfahrt GmbH): Docket No. FAA-2011-0995; Directorate Identifier 2010-NM-243-AD.

Comments Due Date

(a) We must receive comments by November 21, 2011.

Affected ADs

(b) None.

Applicability

(c) This AD applies to 328 Support Services GmbH (Type Certificate Previously Held by AvCraft Aerospace GmbH; Fairchild Dornier GmbH; Dornier Luftfahrt GmbH) Model 328-100 and 328-300 airplanes; certificated in any category; all serial numbers.

Subject

(d) Air Transport Association (ATA) of America Code 27: Flight Controls.

Reason

(e) The mandatory continuing airworthiness information (MCAI) states:

Based on in-service experience, the System Safety Analyses for the Flight Controls have been reviewed and their conclusions have been accepted during the latest Candidate Maintenance Coordination Committee meeting.

This review resulted in reduced inspection intervals, specifically for the flight controls tab-to-actuator linkage [certification maintenance requirements] CMR** repetitive inspections, which have been identified as mandatory actions for continued airworthiness.

Failure of these components or their constituent parts could lead to reduced control of the aeroplane.

* * * * *

Compliance

(f) You are responsible for having the actions required by this AD performed within the compliance times specified, unless the actions have already been done.

Maintenance Program Revision

(g) Within 100 flight hours after the effective date of this AD: Revise the airplane maintenance program by incorporating the applicable CMR tasks identified in table 1 of this AD.

Table 1—CMR Tasks
Model— | Task No.— | Task description— | Identified in—
328-100 airplanes | Task 27-10-00-09 | Visual Check of Mechanical Linkages Aileron Trim Tab to Actuator | 328 Support Services Dornier 328 Certification Maintenance Requirements Document TM-CMR-010793-ALL, Revision 13, dated April 30, 2007.
328-100 airplanes | Task 27-20-00-09 | Visual Check of Mechanical Linkages Rudder Trim Tab/Spring Tab to Actuator | 328 Support Services Dornier 328 Certification Maintenance Requirements Document TM-CMR-010793-ALL, Revision 13, dated April 30, 2007.
328-100 airplanes | Task 27-30-00-13 | Visual Check of Mechanical Linkages Elevator Trim Tabs to Actuator | 328 Support Services Dornier 328 Certification Maintenance Requirements Document TM-CMR-010793-ALL, Revision 13, dated April 30, 2007.
328-300 airplanes | Task 27-10-00-13 | Visual Check of Linkage Aileron Trim Tab to Actuator | 328 Support Services Dornier 328JET Certification Maintenance Requirements Document TM-CMR-010599-ALL, Revision 2, dated May 1, 2007.
328-300 airplanes | Task 27-20-00-11 | Visual Check of Linkage Rudder Trim Tab/Spring Tab to Actuator | 328 Support Services Dornier 328JET Certification Maintenance Requirements Document TM-CMR-010599-ALL, Revision 2, dated May 1, 2007.
328-300 airplanes | Task 27-30-00-14 | Visual Check of Linkage Elevator Trim Tabs to Actuator | 328 Support Services Dornier 328JET Certification Maintenance Requirements Document TM-CMR-010599-ALL, Revision 2, dated May 1, 2007.

(h) The initial compliance time for the CMR tasks identified in table 1 of this AD is within 500 flight hours after the most recent inspection, or within 100 flight hours after the effective date of this AD, whichever occurs later.

No Alternative Inspections or Inspection Intervals

(i) After accomplishing the revision required by paragraph (g) of this AD, no alternative inspection or inspection interval may be used unless the inspection or inspection interval is approved as an alternative methods of compliance (AMOC) in accordance with the procedures specified in paragraph (j) of this AD.

FAA AD Differences

Note 1: This AD differs from the MCAI and/or service information as follows:

Although EASA Airworthiness Directive 2010-0054, dated March 25, 2010, specifies both revising the maintenance program, doing certain repetitive actions, and doing corrective actions, this AD only requires the revision. Requiring a revision of the maintenance program, rather than requiring individual repetitive actions, requires operators to record AD compliance only at the time the revision is made.

Other FAA AD Provisions

(j) The following provisions also apply to this AD:

(1) Alternative Methods of Compliance: The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Tom Rodriguez, Aerospace Engineer, International Branch, ANM-116, Transport Airplane Directorate, FAA 1601 Lind Avenue, SW., Renton, Washington 98057-3356; telephone (425) 227-1137; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI EASA Airworthiness Directive 2010-0054, dated March 25, 2010; 328 Support Services Dornier 328 Certification Maintenance Requirements Document TM-CMR-010793-ALL, Revision 13, dated April 30, 2007; and 328 Support Services Dornier 328JET Certification Maintenance Requirements Document TM-CMR-010599-ALL, Revision 2, dated May 1, 2007; for related information.

Issued in Renton, Washington, on September 22, 2011.
Ali Bahrami,
Manager, Transport Airplane Directorate, Aircraft Certification Service.

[FR Doc. 2011-25580 Filed 10-4-11; 8:45 am]

BILLING CODE 4910-13-P